DEPARTMENT OF ENERGY

10 CFR Part 430

[Docket No. EE-RM/TP-02-001]

RIN 1904-AB12

Office of Energy Efficiency and Renewable Energy; Energy Conservation Program for Consumer Products: Test Procedure for Refrigerators and Refrigerator-Freezers

AGENCY: Office of Energy Efficiency and Renewable Energy, Department of Energy.

ACTION: Notice of proposed rulemaking.

SUMMARY: This notice of proposed rulemaking contains an amendment to the test procedure for measuring the energy consumption of refrigerators and refrigerator-freezers for models with a long-time automatic defrost function. The amendment gives credit for a slight improvement in energy efficiency because the defrost heater on such models of refrigerators and refrigerator-freezers is not required to heat the evaporator from its coldest temperature. This change in the test procedure will encourage use of efficiency enhancing technology. Because the amendment to the rule is not expected to receive any significant adverse comments, the amendment is also being issued as a direct final rule in this Federal Register.

DATES: Public comments on the amendment proposed herein will be accepted until April 7, 2003.

ADDRESSES: Written comments should be addressed to: Ms. Brenda Edwards-Jones, U.S. Department of Energy, Office of Energy Efficiency and Renewable Energy, EE-2J, 1000 Independence Avenue, SW, Washington, DC 20585-0121. E-mail address: Brenda.Edwards-Jones@ee.doe.gov. You should identify all such documents both on the envelope and on the documents as Energy Conservation Program for Consumer Products: Test Procedures for Refrigerators and Refrigerator-Freezers, Docket No. EE-RM/TP-02-001.

Copies of public comments received may be read in the Freedom of Information Reading Room (Room No. 1E-190) at the U.S. Department of Energy, Forrestal Building, 1000 Independence Avenue, SW, Washington, DC, between the hours of 9 a.m. and 4 p.m., Monday through Friday, except Federal holidays.

FOR FURTHER INFORMATION CONTACT: Michael Raymond, U.S. Department of Energy, Office of Energy Efficiency and Renewable Energy, EE-2J, 1000 Independence Avenue, SW, Washington, DC 20585-0121, (202) 586-9611, e-mail: Michael.Raymond@ee.doe.gov; or Francine Pinto, Esq., U.S. Department of Energy, Office of General Counsel, GC-72, 1000 Independence Avenue, SW, Washington, DC 20585, (202) 586-9507, e-mail: Francine.Pinto@hq.doe.gov.

SUPPLEMENTARY INFORMATION: This Notice of Proposed Rulemaking (NOPR) proposes an amendment to the test procedure for measuring the energy consumption of refrigerators and refrigerator-freezers. The amendment changes the calculation of the test time period for long-time automatic defrost to allow for a control capable of timing defrost to occur other than during a compressor “on” cycle, thereby taking advantage of the natural warming of the evaporator during an “off” cycle, and saving additional energy. The amendment has no effect on the testing of refrigerators and refrigerator-freezers that do not have a long-time automatic defrost system.

Today, the Department of Energy (Department) is also publishing, elsewhere in this issue of the Federal Register, a direct final rule that makes the change to this test procedure that is being proposed in this NOPR. As explained in the preamble of the direct final rule, the Department considers this amendment to be uncontroversial and unlikely to generate any significant adverse or critical comments. If no significant adverse or critical comments are received by the Department on the amendment, the direct final rule will become effective on the date specified in that rule, and there will be no further action on this proposal. If significant adverse or critical comments are timely received on the direct final rule, the direct final rule will be withdrawn. The public comments will then be addressed in a subsequent final rule based on the rule proposed in this NOPR (which is the same as the rule set forth in the direct final rule). Because the Department will not institute a second comment period on this proposed rule, any parties interested in commenting should do so during this comment period.

For further supplemental information, the detailed rationale, and the rule amendment, see the information provided in the direct final rule in this Federal Register.

List of Subjects in 10 CFR Part 430

Administrative practice and procedure, Energy conservation, Household appliances.

Issued in Washington, DC, on February 28, 2003.
David K. Garman,
Assistant Secretary, Energy Efficiency and Renewable Energy.

[FR Doc. 03-5405 Filed 3-6-03; 8:45 am]

BILLING CODE 6450-01-P